DEPARTMENT OF COMMERCE

National Oceanic and Atmospheric Administration

[Docket No. 001027300-0300-01]

RIN 0648-ZA96

The Argo Project: Global Ocean Observations for Understanding and Prediction of Climate Variability

AGENCY: Office of Oceanic and Atmospheric Research, National Oceanic and Atmospheric Administration, Department of Commerce.

ACTION: Notice of request for proposals.

SUMMARY: The purpose of this notice is to advise the public that the Office of Oceanic and Atmospheric Research (OAR), on behalf of the National Ocean Partnership Program (NOPP), is entertaining preliminary proposals (Letters of Intent) and subsequently full proposals for implementing the next phase of the U.S. contribution to the global Argo array of profiling floats. The NOPP was established by 10 U.S.C. 7902 et seq. to (1) promote the national goals of assuring national security, advancing economic development, protecting qualify of life, and strengthening science education and communication through improved knowledge of the ocean; and (2) coordinate and strengthen oceanographic efforts in support of those goals by identifying and carrying out partnerships among Federal agencies, academia, industry, and other members of the oceanographic scientific community in the areas of data, resources, education, and communication. In 1999, Argo was identified as a key NOPP program and selected for implementation. In FY 2001, NOAA intends to begin the long-term deployment and operation of Argo. Contingent on the availability of appropriated funds, this phase of Argo is expected to continue for five years. The level of funding available each year will be dependent on appropriations. It is expected that approximately $3,000,000 will available on a continuing basis for the project.

Timetable: January 12, 2001, 5 pm (EST)—One Letter of Intent (LOI) (not required) due at NOAA/Office of Oceanic and Atmospheric Research. The LOI may be transmitted by facsimile or electronic mail.

March 16, 2001, 5 pm (EST)—One original plus two copies of the full proposal due at NOAA/Office of Oceanic and Atmospheric Research. If color and/or grayscale graphics are included in the proposal, and offerer feels that color or grayscale graphics would be necessary for the review process, the offerer may submit twelve additional copies of these graphics. The proposal must clearly delineate each partner's efforts and the associated request(s) for NOPP funds as well as any cost-sharing. Separate budgets within the single proposal will be required if more than one funding action is needed. Facsimile or electronic transmissions of the full proposal will not be accepted.

July 1, 2001 (approximate)—Funds awarded to selected recipients. Program begins.

ADDRESSES: Letters of Intent (LOI) and Proposal submissions must be directed to the Office of Oceanic and Atmospheric Research at: Office of Oceanic and Atmospheric Research; National Oceanic and Atmospheric Administration, R/OSS2; ATTN: Dr. Stephen R. Piotrowicz; SSMC3, Room 11554; 1315 East-West Highway; Silver Spring, MD 20910.

FOR FURTHER INFORMATION CONTACT: Dr. Stephen R. Piotrowicz at the above address, or at phone: (301) 713-2465 Ext. 124, Facsimile: (301) 713-0158, internet: Steve.Piotrowicz@noaa.gov.

SUPPLEMENTARY INFORMATION:

I. Program Authority

Authority: 49 U.S.C. 44720(b); 33 U.S.C. 883d, 883e; 15 U.S.C. 2904; 15 U.S.C. 2931 et seq., (CFDA No. 11.431)—Climate and Atmospheric Research.

II. Program Description

Background

Argo, a broad-scale global array of temperature/salinity profiling floats, is planned as a major component of the ocean observing system, with deployment scheduled to begin in 2000. Conceptually, Argo builds on the existing upper-ocean thermal networks, extending their spatial and temporal coverage, depth range and accuracy, and enhancing them through addition of salinity and velocity measurements. Argo is designed to have a strong complementary relationship with the Jason altimeter mission. For the first time, the physical state of the upper ocean will be systematically measured and assimilated in near real-time.

The objectives of Argo fall into several categories. Argo will provide a quantitative description of the evolving state of the upper ocean and the patterns of ocean climate variability, including heat and freshwater storage and transport. The data will enhance the value of the Jason altimeter through measurement of subsurface vertical structure (T(z), S(z)) and reference velocity, with sufficient coverage and resolution for interpretation of altimetric sea surface height variability. Argo data will be used for initialization of ocean and coupled forecast models, data assimilation and dynamical model testing. A primary focus of Argo is seasonal to decadal climate variability and predictability, but a wide range of applications for high-quality global ocean analyses is anticipated.

The initial design of the Argo network is based on experience from the present observing system, on newly gained knowledge of variability from the TOPEX/Poseidon altimeter, and on estimated requirements for climate and high-resolution ocean models. All Argo data will be publicly available in near real-time via the GTS, and in scientifically quality-controlled form with a few months delay. Global coverage should be achieved during the Global Ocean Data Assimilation Experiment (GODAE), which together with CLIVAR (CLImate VARiability and Predictability Program) and GCOS/GOOS, provide the major scientific and operational impetus for Argo. The design emphasizes the need to integrate Argo within the overall framework of the global ocean observing system.

International planning for Argo, including sampling and technical issues, is coordinated by the Argo Science Team. Nations presently having Argo plans that include float procurement or procurement, include Australia, Canada, France, Japan, U.K., and U.S.A., plus a European Union proposal. Combined deployments from these nations are expected to exceed 700 floats per year by 2002.

Funding Availability

This RFP is to implement the NOAA component of the U.S. contribution to Argo. Actual funding levels will depend upon the final FY 2001 budget appropriations. This Program Announcement is for a program to be conducted by investigators both inside and outside of NOAA, over a five year period. It is expected, though not certain, that a single program involving multiple investigators will be funded. In accordance with the NOPP, team efforts among academia, industry, and government participants with cost sharing proposals are very strongly encouraged. For Federal Government investigators, funding will be provided through intra- or interagency transfers, as appropriate. The funding instrument for extramural awards will be a grant unless it is anticipated that NOAA will be substantially involved in the implementation of the project, in which case the funding instrument should be a cooperative agreement. Examples of substantial involvement may include but are not limited to proposals for collaborative between NOAA or NOAA scientists and a recipient scientist or technician and/or contemplation by NOAA of detailing Federal personnel to work on proposal projects. NOAA will make decisions regarding the use of the a cooperative agreement on a case-by-case basis.

III. Eligibility

Eligible applicants are institutions of higher education, other non-profits, commercial organizations, international organizations, state, local and Indian tribal governments and Federal agencies. Applicants from non-Federal and Federal applicants will be competed against each other. Proposals selected for funding from non-Federal applicants will be funded through a project grant or cooperative agreement under the terms of this notice. Proposals selected for funding from NOAA employees shall be effected by an intraagency fund transfer. Proposals selected for funding from a non-NOAA Federal agency will be funded through an interagency transfer. Please Note: Before non-NOAA Federal applicants may be funded, they must demonstrate that they have legal authority to receive funds from another federal agency in excess of their appropriation. Because this announcement is not proposing to procure goods or services from applicants, the Economy Act (31 USC 1535) is not an appropriate legal basis.

IV. Evaluation Criteria

Evaluations of the proposals will use the following selection criteria:

1. Overall technical merits of the proposal, including (20%):

a. Deployment strategy, including how the proposed strategy complements and/or supplements other components of the observing system as they relate to operational predictions, as well as to the objectives of CLIVAR and GODAE;

b. Deployment logistics, including communications as well ad deployment; and

c. Data management.

2. Relevance of the proposed program to NOPP objectives of developing a better understanding of oceans and establishing U.S. leadership in oceanography through a formal partnership mechanism including (20%)

a. Data accessibility,

b. Broad participation within the oceanographic community,

c. Partners with a long-term commitment to the proposed objectives;

d. Resource sharing among partners, and

e. The degree of cost-sharing by partners with the requested Partnership funding.

3. The offeror's capabilities, related experience, and facilities or unique combinations of these that are critical to the program's objectives (20%).

4. The qualifications and experience of the proposed principal investigator(s) and key personnel (20%).

5. The degree of significant partnering among at least two of the following parties: Academia, industry or government (10%).

6. Realism of the proposed costs (10%).

V. Selection Procedures

All proposals, including those submitted by NOAA employees, will be evaluated and ranked using the criteria above by: (1) Independent peer mail review, and/or (2) independent peer panel review; both NOAA and non-NOAA experts in the field may be used in this process. The program officer will no be a voting member of an independent peer panel. The results of the peer reviews are provided to the NOPP Interagency Working Group. The NOPP Interagency Working Group determines the proposals to be funded, subject to the concurrence of the National Ocean Research Council (NORLC) for funding. The NORLC reviews and approves a NOPP program at a regular NORLC meeting. An award may be selected outside of the ranking order provided by the peer mail or peer panel reviewers. Reasons for an award outside of the ranking order are logistical (e.g, access to deployment platforms) and timeliness (e.g., it takes an unusually long time, for example, a couple of years from receipt of funding to full deployment of floats supported each year). The Program Manager will also determine the total duration of funding. Unsatisfactory performance by a recipient under prior Federal awards may result in an application not being considered for funding.

V. Instruction for Application

What To Submit

Letter of Intent

To prevent the expenditure of effort that may not be successful, it is in the best interest of applicants to submit letters of intent, however, it is not a requirement. Letters for Intent must be single- or double-spaced, typewritten in at least a 10-point font, and printed on metric A4 (210 x 297 mm) or 8½″ x 11″ paper. The following information should be included:

(1) Title page: The title page should clearly identify the program area being addressed by starting the project title with “The Argo Project: Global ocean observations for understanding and prediction of climate variability.” Principal Investigators and collaborators should be identified by affiliation and contact information. The total amount of Federal funds and matching funds being requested should be listed for each budget period.

(2) A concise (2-page limit) description of the program including a brief summary of work to be completed, methodology to be used, approximate costs of the major elements (salaries and benefits; direct costs such as float acquisition and preparation, communications and data management; travel, including deployment costs; indirect costs) of the project. Evaluation will be by program management. It is in the best interest of applicants and their institutions to submit letters of intent; however, it is not a requirement. Facsimile and electronic mail are acceptable for letters of intent only. Projects deemed suitable during Letters of Intent (LOI) review will be encouraged to submit full proposals.

(3) Resumes (1-page limit) of the Principal Investigators.

Full Proposed Guidelines

Each full proposal must include the first seven items listed below; the standard forms included as Item 8 will only be required for proposal(s) selected for funding. All pages should be single- or double-spaced, typewritten in at least a 10-point front, and printed on metric A4 (210 x 297 mm) or 8½″ x 11″ paper. Brevity will assist reviewers and program staff in dealing effectively with proposals, therefore, the Program Description may not exceed 15 pages. Tables and visual materials, including figures, charts, graphs, maps, photographs and other pictorial presentations are included in the 15-page limitation; literature citations and letters of support, if any, are not included in the 15-page limitation. Conformance to the 15-page limitation will be strictly enforced. All information needed for review of the proposal should be included in the main text; no appendices, other than support letters, if any, are permitted. Failure to adhere to the above limitations will result in the proposal being rejected without review.

(1) Signed Title Page: The title page should be signed by the Principal Investigator and the institutional representative and should clearly identify program by starting the title “The Argo Project: Global ocean observations for understanding and prediction of climate variability.” The Principal Investigator and institutional representative should be identified by full name, title, organization, telephone number, and address. The total amount of Federal funds being requested should be listed for each year of the program; the total should include all subrecipient's budgets on projects involving multiple institutions.

(2) Abstract: An abstract must be included and should contain an introduction of the problem, rationale and a brief summary of work to be completed. The abstract should appear on a separate page, headed with the proposal title, institution(s) investigator(s), total proposed cost and budget period.

(3) Program Description/Work Statement (15-page limit): The Program Description should include identification of the problem, objectives (both operational and scientific) of the work, relevance to the operational prediction mission, proposed implementation strategy, proposed methodology (e.g., float acquisition, communications, deployment), and a transition plan for long-term data management. The following elements should be described in detail:

(a) Deployment strategy: The program should include a plan for interactions with the operational and research communities with regard to the deployment strategy for the U.S. contribution to the global 3-degree array. The program should describe with whom interactions will occur, and how their recommendations will be considered to determine the configuration of the array that you intend to deploy. The program should also address how the proposed deployment strategy complements and/or supplements other components of the observing system as they relate to operational predictions, as well as to the objectives of CLIVAR (CLImate VARiability program) and GODAE (Global Ocean Data Assimilation Experiment).

(b) Deployment logistics: All costs associated with the implementation of Argo should be included, including communications and deployment costs. The proposal should demonstrate that access to appropriate deployment platforms (ships, aircraft) is available to implement the strategy being proposed.

(c) Data Management: The proposal should also include a plan for continued inter-comparison of floats from different manufacturers within the consortium and within the international science group. It should illustrate how real-time (within 24 hour) delivery of data will be achieved. Since the implementation of the global Argo array will be the responsibility of several international groups that may change over time, the proposal must include a plan for maintaining the integrity of the data system (data flow and quality control) over the lifetime of the program.

(4) Budget and Budget Justification: There should be a separate budget for each year of the project as well as a cumulative annual budget for the entire project. Subcontracts should have a separate budget page. Matching funds must be indicated. Applicants should provide justification for all budget items in sufficient detail to enable the reviewers to evaluate the appropriateness of the funding requested. For all applications, regardless of any approved indirect cost rate applicable to the award, the maximum dollar amount of allocable indirect costs for which the Department of Commerce will reimburse the Recipient shall be the lesser of: (a) The Federal share of the total allocable indirect costs of the award based on the negotiated rate with the cognizant Federal agency as established by audit or negotiation; or (b) the line item amount for the Federal share of indirect costs contained in the approved budget of the award.

(5) Current and Pending Support: Applicants must provide the following information on the relationship between this project and other work planned, anticipated, or underway under Federal assistance: current and pending support for ongoing projects and proposals, subsequent funding in the case of continuing grants, and the number of person-months per year to be devoted by the principal investigator to each project.

(6) Vitae (2 pages maximum per investigator): Abbreviated curriculum vitae are sought with each proposal. Reference lists should be limited to all publications in the last three years with up to five other relevant papers.

(7) Results from prior research: The results of related projects supported by NOAA and other agencies should be described, including their relation to the currently proposed work. Reference to each prior research award should include the title, agency, award number, Principal Investigators, of award and total award. The section should be a brief summary and should not exceed two pages total.

(8) Standard Application Forms: For proposal(s) selected for funding, the following forms must also be submitted: (a) Standard Form 424, Application for Federal Assistance, and 424B, Assurances-Non-Construction Programs, (Rev 4-88). Please note that both the Principal Investigator and an administrative contact should be identified in Section 5 of the SF424. For Section 10, applicants should enter “11.431” for the CFDA Number and “Climate and Atmospheric Research” for the title. The form must contain the original signature of an authorized representative of the applying institution.

(b) Primary Applicant Certifications. All primary applicants must submit a completed Form CD-511, “Certifications Regarding Debarment, Suspension and Other Responsibility Matters; Drug-Free Workplace Requirements and Lobbying”, and the following explanations are hereby provided:

(i) Non-Procurement Debarment and Suspension. Prospective participants (as defined at 15 CFR part 26, § 26.105 105) are subject to 15 CFR part 26, “Non-Procurement Debarment and Suspension” and the related section of the certification form prescribed above applies;

(ii) Drug-Free Workplace. Grantees (as defined at 15 CFR part 26, § 26.605) are subject to 15 CFR part 26, subpart F, “Government-wide Requirements for Drug-Free Workplace (Grants)” and the related section of the certification form prescribed above applies;

(iii) Anti-Lobbying. Persons (as defined at 15 CFR part 28, § 28.105) are subject to the lobbying provisions of 31 U.S.C. 1352, “Limitation on use of appropriated funds to influence certain Federal contracting and financial transactions”, and the lobbying section of the certification form prescribed above applies to applications/bids for grants, cooperative agreements, and contracts for more than $100,000, and loans and loan guarantees for more than $150,000; and

(iv) Anti-Lobbying Disclosures. Any applicant that has paid or will pay for lobbying using any funds must submit an SF-LLL, “disclosure of Lobbying Activities,” as required under 15 CFR part 28, appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to the Department of Commerce (DOC). SF-LLL submitted by any tier recipient or subrecipient should be submitted to DOC in accordance with the instructions contained in the award document.

VI. Other Requirements

(A) Federal Policies and Procedures—Recipients and subrecipients are subject to all applicable Federal laws and Federal and Department of Commerce policies, regulations, and procedures applicable to Federal financial assistance awards.

(B) Past Performance—Unsatisfactory performance under prior Federal awards may result in an application not being considered for funding.

(C) Preaward Activities—If applicants incur any costs prior to an award being made, they do so solely at their own risk of not being reimbursed by the Government. Notwithstanding any verbal assurance that may have been received, there is no obligation to the applicant on the part of Department of Commerce to cover pre-award costs.

(D) No Obligation of Future Funding—If an application is selected for funding, the Department of Commerce has no obligation to provide any additional future funding in connection with the award. Renewal of an award to increase funding or extend the period of performance is at the total discretion of the Department of Commerce.

(E) Delinquent Federal Debts—No award of Federal funds shall be made to an applicant who has an outstanding delinquent Federal debt until either:

(i) The delinquent account is paid in full,

(ii) A negotiated repayment schedule is established and at least one payment is received, or

(iii) Other arrangements satisfactory to the Department of Commerce are made.

(F) Name and Check Review—All non-profit and for-profit applicants are subject to a name check review process. Name checks are intended to reveal if any key individuals associated with the applicant have been convicted of, or are presently facing criminal charges such as fraud, theft, perjury, or other matters which significantly reflect on the applicant's management, honesty, or financial integrity.

(G) Intergovernmental Review—This program is subject to the requirements of OMB Circular No. A-110, and 15 CFR part 14, “Uniform Administrative Requirements for Grants and Agreements with Institutions of Higher Education, Hospitals, Other Non-Profit and Commercial Organizations”, to State and Local Governments”, as applicable. Applications under this program are not subject to Executive Order 12372, “Intergovernmental Review of Federal Programs.”

(H) False Statements—A false statement on an application is grounds for denial or termination of funds, and grounds for possible punishment by a fine or imprisonment as provided in 18 U.S.C. 1001.

(I) Purchase of American-Made Equipment and Products—Applicants are encouraged that any equipment or products authorized to be purchased with funding provided under this program must be American-made to the maximum extent feasible.

(J) Pursuant to Executive Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered HBCU/MSIs are listed at the following Internet website: http://www.ed.gov/offices/OCR/99minin.html.

(K) For awards receiving funding for the collection or production of geospatial data (e.g., GIS data layers), the recipient will comply to the maximum extent practicable with E.O. 12906, Coordinating Geographic Data Acquisition and Access, The National Spatial Data Infrastructure, 59 FR 17671 (April 11, 1994). The award recipient shall document all new geospatial data collected or produced using the standard developed by the Federal Geographic Data Center, and make that standardized documentation electronically accessible. The standard can be found at the following Internet website: (http://www.fgdc.gov/standards/standards/html)

(L) Notwithstanding any other provision of the law, no person is required to respond to nor shall a person be subject to a penalty for failure to comply with a collection of information subject to the requirements of the Paperwork Reduction Act, unless that collection of information displays a current, valid OMB control number.

Classification

Prior notice and an opportunity for public comments are not required by the Administrative Procedure Act or any other law for this notice concerning grants, benefits, and contracts. Therefore, a regulatory flexibility analysis is not required for purposes of the Regulatory Flexibility Act.

This action has been determined to be not significant for purposes of E.O. 12866.

This notice contains collection of information requirements subject to the Paperwork Reduction Act. The use of Standard Forms 424, 424B, and SF-LLL have been approved by OMB under the respective control numbers 0328-0043, 348-0040, and 0348-0046. Notwithstanding any other provision of the law, no person is required to respond to, nor shall any person be subject to a penalty for failure to comply with, a collection of information subject to the requirements of the Paperwork Reduction Act, unless that collection of information displays a currently valid OMB control number.

Dated: December 6, 2000.
David L. Evans,
Assistant Administrator, Office of Oceanic and Atmospheric Research, National Oceanic and Atmospheric Administration.

[FR Doc. 00-31607 Filed 12-11-00; 8:45 am]

BILLING CODE 3510-KD-M